DEPARTMENT OF ENERGY

Federal Energy Regulatory Commission

[Docket No. RP03-602-000]

Williston Basin Interstate Pipeline Company; Notice of Tariff Filing

September 11, 2003.

Take notice that on September 9, 2003, Williston Basin Interstate Pipeline Company (Williston Basin), tendered for filing as part of its FERC Gas Tariff, Second Revised Volume No. 1, the following tariff sheets to become effective October 9, 2003:

Tenth Revised Sheet No. 252

Third Revised Sheet No. 252A.01

Second Revised Sheet No. 252A.02

Second Revised Sheet No. 252A.04

Third Revised Sheet No. 283A

Second Revised Sheet No. 283D

Williston Basin states that the proposed tariff changes are being requested to avoid administrative and accounting burdens encountered by both the Company and its shippers due to the current penalty credit timing in the Company's Tariff.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 22, 2003.

Magalie R. Salas,
Secretary.

[FR Doc. 03-23812 Filed 9-17-03; 8:45 am]

BILLING CODE 6717-01-P